DEPARTMENT OF ENERGY

Federal Energy Regulatory Commission

[Docket No. AD25-7-000]

Meeting the Challenge of Resource Adequacy in Regional Transmission Organization and Independent System Operator Regions; Notice Requesting Post-Conference Comment

On June 4 and 5, 2025, Federal Energy Regulatory Commission (Commission) convened a Commissioner-led technical conference to discuss generic issues related to resource adequacy constructs, including the roles of capacity markets in the Regional Transmission Organization (RTO)/Independent System Operator (ISO) regions that utilize them and alternative constructs in RTO/ISO regions without capacity markets.

All interested persons are invited to file post-conference comments to address issues raised during the conference that they believe would benefit from further discussion. Parties are also invited to provide comments on the questions presented in the conference agenda.¹ Commenters need not respond to all topics or questions asked.

¹ See Third Supplemental Notice of Commissioner-Led Technical Conference, Docket No. AD25-7-000 (June 2, 2025).

Commenters may reference material previously filed in this docket but are encouraged to avoid repetition or replication of previous material. To facilitate the processing of comments, we urge commenters to organize their comments by panel topic and question presented at the conference, and to be brief. In addition, commenters are encouraged, when possible, to provide examples and evidence in support of their answers. However, we also remind commenters to avoid submission of ex parte communications discussing the merits of any contested proceeding.² Comments must be submitted on or before Monday, July 7, 2025.

² See 18 CFR 385.2201(b) (2024).

Comments may be filed electronically via the internet.³ Instructions are available on the Commission's website http://www.ferc.gov/docs-filing/efiling.asp. For assistance, please contact FERC Online Support at FERCOnlineSupport@ferc.gov or toll free at 1-866-208-3676, or for TTY, (202) 502-8659. Although the Commission strongly encourages electronic filing, documents may also be paper-filed. To paper-file, submissions sent via the U.S. Postal Service must be addressed to: Federal Energy Regulatory Commission, Office of the Secretary, 888 First Street NE, Washington, DC 20426. Submissions sent via any other carrier must be addressed to: Federal Energy Regulatory Commission, Office of the Secretary, 12225 Wilkins Avenue, Rockville, MD 20852.

³ See 18 CFR 385.2001(a)(1)(iii).

For more information about this Notice, please contact: Matt Butner (Technical Information), Office of Energy Policy and Innovation, (202) 502-8272, Matthew.Butner@ferc.gov; Nathan Lobel (Legal Information), Office of the General Counsel, (202) 502-8456, Nathan.Lobel@ferc.gov.

Dated: June 5, 2025.
Debbie-Anne A. Reese,
Secretary.

[FR Doc. 2025-10559 Filed 6-10-25; 8:45 am]

BILLING CODE 6717-01-P